DEPARTMENT OF AGRICULTURE

Forest Service

Shasta-Trinity National Forest, California; Shasta-Trinity National Forest Motorized Travel Management EIS

AGENCY: Forest Service, USDA.

ACTION: Notice of intent to prepare an Environmental Impact Statement.

SUMMARY: The Shasta-Trinity National Forest (Forest) will prepare an Environmental Impact Statement to disclose the impacts associated with the following proposed actions:

1. Prohibition of cross-country motorized vehicle travel (with the exception of snowmobiles) off designated National Forest System (NFS) roads, NFS trails and areas by the public except as allowed by permit or other authorization (Travel Management Rule, 36 CFR Part 212, Subpart B).

2. Amend the Forest Land and Resource Management Plan (Plan) to conform with the Travel Management Rule, Subpart B, by removing reference to OHV cross-country travel in the Forest Plan and include as a forest-wide standard “Prohibit wheeled vehicle travel off designated roads and trails except for administrative use or uses under permitted activities or within designated areas.”

3. Add approximately 32 miles of existing unauthorized routes to the National Forest Transportation System (NFTS) as roads open to the public for wheeled motorized vehicle use by vehicle class and season of use.

4. Add approximately 11 miles of existing unauthorized routes to the NFTS as motorized trails open to the public for wheeled motorized vehicle use by vehicle class and season of use.

5. Restrict use below the high-water mark at Shasta Lake and Trinity Lake, (within the Shasta-Trinity National Recreation Area) to only highway legal vehicles and provide a maximum speed limit of 15 miles per hour (mph).

DATES: The comment period on the proposed action will extend 30 days from the date the Notice of Intent is published in the Federal Register.

Completion of the Draft Environmental Impact Statement (DEIS) is expected in January 2009 and the Final Environmental Impact Statement (FEIS) is expected in July 2009.

ADDRESSES: Send written comments to: Travel Management Team, Shasta-Trinity National Forest, 3644 Avtech Parkway, Redding, CA 96002. Electronic comments may be submitted to comments-pacificsouthwest-shasta-trinity@fs.fed.us with Subject: Motorized Travel.

FOR FURTHER INFORMATION CONTACT: Robert Remillard, Shasta-Trinity National Forest, 3644 Avtech Parkway, Redding, CA 96002, Phone: (530) 226-2421, Fax: (530) 226-2470, e-mail: rremillard@fs.fed.us.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. The ten states with the largest population also have the most OHV users. California has 4.35 million OHV users accounting for almost 11% of the U.S. total (Off-Highway Vehicle Recreation in the United States, Regions and States: A National Report from the National Survey on Recreation and the Environment (NSRE) Cordell, Betz, Green and Owens June 2005). There were 786,914 ATVs and OHV motorcycles registered in 2004, up 330% since 1980. Annual sales of ATVs and OHV motorcycles in California were the highest in the U.S. for the last 5 years. Four-wheel drive vehicle sales in California also increased by 1500% to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004).

On August 11, 2003, the Pacific Southwest Region of the Forest Service entered into a Memorandum of Intent (MOT) with the California Off-Highway Motor Vehicle Recreation Commission, and the Off-Highway Motor Vehicle Recreation Division of the California Department of Parks and Recreation. That MOI set in motion a region-wide effort to “Designate OHV roads, trails, and any specifically defined open areas for motorized wheeled vehicles on maps of the 19 National Forests in California by 2007.”

On November 9, 2005, the Forest Service published final travel management regulations in the Federal Register (FR Vol. 70, No. 216-Nov. 9, 2005, pp 68264-6829 1). Subpart B of the final Travel Management Rule requires designation of those roads, trails, and areas that are open to motor vehicle use on National Forests. Route designations will be made by class of vehicle and, if appropriate, by time of year. The final rule allows for motor vehicle use only on designated system routes and in designated areas.

On some NFS lands, long managed as open to cross-country motor vehicle travel, repeated use has resulted in unplanned, unauthorized, roads and trails. These routes generally were developed without environmental analysis or public involvement, and do not have the same status as NFS roads and NFS trails included in the forest transportation system. Nevertheless, some unauthorized routes are well-sited, provide excellent opportunities for outdoor recreation by motorized and non-motorized users, and would enhance the National Forest system of designated roads, trails and areas. Other unauthorized routes are poorly located and cause unacceptable impacts. Only NFS roads and NFS trails can be designated for wheeled motorized vehicle use. For an unauthorized route to be designated, it must first be added to the national forest transportation system (NFTS).

In accordance with the Memorandum of Intent, the Forest recently completed an inventory of unauthorized routes on NFS lands and identified approximately 5,085 unauthorized routes totaling 1,198 miles. The Forest then used an interdisciplinary process to conduct travel analysis to determine whether any of the unauthorized routes should be proposed for addition to the NFTS in this proposed action. A number of routes were identified which could be considered in this or future decisions on the NFTS as a part of travel management on the Forest. The Responsible Official has made decisions on what, if any, changes to the existing NFTS would be a part of this proposed action.

Roads, trails and areas that are currently part of the Forest transportation system and are open to wheeled motorized vehicle travel will remain designated for such unless changed by this proposal. This proposal focuses only on the prohibition of wheeled motorized vehicle travel off designated routes and needed changes to the Forest transportation system, including the addition of some unauthorized routes to the Forest transportation system and minor changes to existing motor vehicle restrictions. The proposed action is being carried forward in accordance with the Travel Management Rule (36 CFR Part 212, Subpart B).

In accordance with the Travel Management Rule, following a decision on this proposal, the Forest will publish a Motor Vehicle Use Map (MVTJM) identifying all Forest roads, trails and areas that are designated for motor vehicle use. The MVUM shall specify the classes of vehicles and, if appropriate, the times of year for which use is designated. Unauthorized routes not included in this proposal are not precluded from future consideration for addition to the NFTS and inclusion in a MVUM. Future decisions associated with changes to the MVIJM may trigger the need for documentation in an environmental analysis.

Purpose and Need for Action

The following needs have been identified for this proposal:

1. There is a need for regulation of unmanaged motorized vehicle travel by the public. In their enjoyment of the National Forest, motorized vehicle users have created numerous unauthorized routes. The number of such routes continues to grow each year with many routes having environmental impacts and safety concerns that have not been addressed. The Travel Management Rule, 36 CFR Part 212, Subpart B, provides policy for ending this trend of unauthorized route proliferation through designation of motorized NFS roads, trails and areas, and the prohibition of cross-country travel.

2. There is a need for the Forest Plan to conform to the new Travel Management Rule, CFR Part 212, Subpart B. A review of the Forest Plan has found that it is not fully consistent with the new Travel Management Rule. Motorized vehicle travel by the public is authorized off designated routes in some areas of the Forest. For example, the Record of Decision (page 7), for the Forest Plan permits Off-Highway-Vehicle (OHV) use as follows: 586,609 acres closed; 1,259,688 acres restricted; and 275,250 acres open to OHV use. In addition the Forest Plan states on page 3-16 “The Forest's OHV Plan designates 239,175 acres to cross-county travel.” This direction is in conflict with the Travel Management Rule at 36 CFR 212.50(a) (Motor vehicle use off designated roads and trails and outside designated areas is prohibited by 36 CFR 261.13).

3. There is a need for changes and additions to the NFTS system to:

3.1. Provide wheeled motorized access to dispersed recreation opportunities (camping, hunting, fishing, hiking, horseback riding, etc.) There is a need to maintain motor vehicle access to dispersed recreation activities that historically have been accessed by motor vehicles. A portion of known dispersed recreation activities are not located directly adjacent to an existing NFTS road or NFTS motorized trail. Some dispersed recreation activities depend on foot or horseback access, and some depend on motor vehicle access. Those activities accessed by motor vehicles consist of short spurs that have been created and maintained primarily by the passage of motorized vehicles. Many such “user-created” routes are not currently part of the NFTS. Without adding them to the NFTS, the regulatory changes noted above would make continued use of such routes illegal through the prohibition of cross country travel and would preclude access to many dispersed recreation activities.

3.2. Provide a diversity of wheeled motorized recreation opportunities (4 x 4 Vehicles, motorcycles, ATVs, passenger vehicles, etc.). It is Forest Service policy to provide a diversity of road and trail opportunities for experiencing a variety of environments and modes of travel consistent with the National Forest recreation role and land capability (FSM 23 53.03(2)). Implementation of Subpart B of the Travel Management Rule will severely reduce motorized recreation opportunities relative to current levels. As a result, there is a need to consider limited changes and additions to the type of use permitted on existing NFTS roads as well as potential additions to the NFTS.

In meeting these needs the proposed action must also achieve the following purposes:

A. Avoid impacts to cultural resources.

B. Provide for public safety.

C. Provide for a diversity of recreational opportunities.

D. Assure adequate access to public and private lands.

E. Provide for adequate maintenance and administration of designations based on availability of resources and funding to do so. Currently the Forest has a maintenance backlog for roads of approximately $137,000,000. Future road and trail budgets are expected to decrease from current levels.

F. Minimize damage to soil, vegetation and other forest resources.

G. Avoid harassment of wildlife and significant disruption of wildlife habitat.

H. Minimize conflicts between wheeled motor vehicles and existing or proposed recreational uses of NFS lands.

I. Minimize conflicts among different classes of wheeled motor vehicle uses of NFS lands or neighboring federal lands.

J. Assure compatibility of wheeled motor vehicle use with existing conditions in populated areas, taking into account sound, emissions, etc.

K. Have valid existing rights of use and access (rights-of-way).

L. Constrain the proposal to that which is within the capability of the Forest to analyze given: The Shasta-Trinity National Forest MVUM publication deadline is December 2009, available funding (road and trail management budgets), and available resources (resource data and staff time).

Proposed Action

1. Prohibit cross-country motorized vehicle travel (with the exception of snowmobiles) off the designated NFTS roads, NFTS trails and areas by the public except as allowed by permit or other authorization.

2. Amend the Forest Plan to be consistent with the Travel Management Rule (36 CFR Part 212, Subpart B) prohibiting cross-county motorized vehicle travel off designated NFS roads and NFTS trails outside of designated areas by removing reference to OHV cross country travel in the Forest Plan and including as a forest-wide standard “Prohibit wheeled vehicle travel off designated roads and trails except for administrative use or uses under permitted activities or within designated areas.”

3. Add approximately 32 miles of existing unauthorized routes as National Forest Transportation System (NFTS) roads classified as open to all vehicle classes, both highway legal and non-highway legal, as shown in Table 1. With these additions, roads open to all vehicle classes will be approximately 3,818 miles. Forest roads maintained for low clearance passenger cars are subject to State traffic laws (36 CFR 212.5(a)(1)). As a result, such roads are open to highway legal vehicles only. These additions would bring the total of all NFTS roads to approximately 5,177 miles. The NFTS road additions are listed below along with the permitted vehicle class and, if applicable, season of use.

Table 1—Proposed NFS Motorized Road Additions
Route ID | Miles (length) | Permitted vehicle class | Season of use
JG3O | 0.18 | All | July 10 to January 31.
JG31 | 0.21 | All | July 10 to January 31.
JM244 | 0.96 | All | July 10 to January 31.
JM25 | 0.19 | All | Yearlong.
JM72 | 0.06 | All | August 2 to December 31.
NRA1 | 0.60 | All | July 10 to January 31.
NRA2 | 0.30 | All | Yearlong.
NRA3 | 0.22 | All | Yearlong.
PM2004 | 0.32 | All | July 10 to January 31.
PM304 | 0.03 | All | July 10 to January 31.
SE194 | 0.04 | All | Yearlong.
SE314 | 0.07 | All | Yearlong.
SE416 | 2.04 | All | Yearlong.
SE476 | 0.16 | All | Yearlong.
SE477 | 0.15 | All | Yearlong.
SE508 | 0.12 | All | Yearlong.
SFMU12 | 0.10 | All | Yearlong.
SFMU13 | 0.26 | All | Yearlong.
SFMU17 | 0.04 | All | Yearlong.
SFMU18 | 0.03 | All | August 16 to January 31.
SFMU4 | 0.02 | All | July 10 to January 31.
SFMU5 | 0.06 | All | Yearlong.
SFMU6 | 0.02 | All | July 10 to January 31.
SFMU7 | 0.01 | All | Yearlong.
SW234 | 0.14 | All | July 10 to January 31.
TC1004 | 0.12 | All | July 10 to January 31.
TC1238 | 0.04 | All | July 10 to January 31.
TC349 | 0.12 | All | Yearlong.
1C828 | 0.08 | All | July 10 to January 31.
TC838 | 0.14 | All | July 10 to January 31.
TC899 | 0.06 | All | July 10 to January 31.
TRMU2 | 0.54 | All | Yearlong.
TRMU3 | 0.15 | All | Yearlong.
TRMU5 | 0.22 | All | Yearlong.
TRMU6 | 0.05 | All | Yearlong.
U1B005A | 0.09 | All | Yearlong.
UIS39B | 0.23 | All | July 10 to January 31.
U27N02G | 0.09 | All | Yearlong.
U30N27S | 0.05 | All | Yearlong.
U30N29E | 0.74 | All | July 10 to January 31.
U34N26DA | 0.26 | All | Yearlong.
U34N26DAA | 0.09 | All | Yearlong.
U35N05A | 1.74 | All | July 10 to January 31.
U35N85A | 0.19 | All | July 10 to January 31.
U36N35AA | 0.71 | All | Yearlong.
U36N35AB | 0.10 | All | Yearlong.
U4ON13D | 0.71 | All | July 10 to January 31.
U40N35A | 0.65 | All | Yearlong.
U4ON84AA | 1.59 | All | Yearlong.
U4ON88XCB | 0.49 | All | Yearlong.
U4ON88XE | 0.25 | All | Yearlong.
U4ON91YA | 0.63 | All | Yearlong.
U414A | 0.59 | All | Yearlong.
U414C | 0.19 | All | Yearlong.
U414CA | 0.12 | All | Yearlong.
U414D | 0.15 | All | Yearlong.
U414F | 0.18 | All | Yearlong.
U414FA | 0.04 | All | Yearlong.
U41N18A | 2.52 | All | Yearlong.
U41N18AA | 2.08 | All | Yearlong.
U41N18AAD | 0.82 | All | Yearlong.
U41N55D | 1.21 | All | Yearlong.
U41N55E | 1.60 | All | Yearlong.
U42N18A | 3.89 | All | Yearlong.
U42N18AA | 2.43 | All | Yearlong.
U4N12L | 0.06 | All | July 10 to January 31.
U4N12LA | 0.06 | All | July 10 to January 31.
Total miles | 32.42

4. Add approximately 11 miles of existing unauthorized routes as NFTS motorized trails, as shown in Table 2. This would bring the total NFTS motorized trails to 163 miles. Approximately 2 miles of motorized trails would be classified as open for “All Trail Class Vehicles”. The remaining 9 miles of motorized trails would be classified as open for “Motorcycle only” or “Vehicles 50 inches or less in width”. The additional NFTS motorized trails are listed below along with the permitted vehicle class and, if applicable, season of use.

Table 2—Proposed NFS Motorized Trail Additions
Route ID | Miles (length) | Permitted vehicle class | Season of use
PM702 | 0.04 | All Trail Class Vehicles | July 10 to January 31.
RM026 | 1.55 | Vehicles 50″ or less in width | July 10 to January 31.
RMO9O | 0.07 | All Trail Class Vehicles | July 10 to January 31.
RM1036 | 2.16 | All Trail Class Vehicles | Yearlong.
RM1226 | 0.10 | All Trail Class Vehicles | Yearlong.
RM706 | 0.07 | All Trail Class Vehicles | Yearlong.
TC1098 | 0.05 | Vehicles 50″ or less in width | Yearlong.
TC1249 | 0.04 | All Trail Class Vehicles | July 10 to January 31.
TC1829 | 0.14 | All Trail Class Vehicles | July 10 to January 31.
TC319 | 0.12 | All Trail Class Vehicles | Yearlong.
U29N28C | 0.51 | Motorcycle only | July 10 to January 31.
U31NO2Q | 0.28 | Vehicles 50″ or less in width | July 10 to January 31.
U4N12D | 3.38 | Vehicles 50″ or less in width | July 10 to January 31.
UOHVO1X | 0.36 | Motorcycle only | Yearlong.
UOHVO2J | 0.53 | Vehicles 50″ or less in width | Yearlong.
UOHV18 | 0.15 | Vehicles 50″ or less in width | Yearlong.
UOHV5OA | 0.43 | Motorcycle only | Yearlong.
UOHV5OC | 0.14 | Motorcycle only | Yearlong.
UT29N3OHA | 0.80 | Vehicles 50″ or less in width | July 10 to January 31.
UT29N3OHAB | 0.25 | Vehicles 50″ or less in width | Yearlong.
Total miles | 11.16

5. Restrict use below the high-water mark at Shasta Lake and Trinity Lake, (within the Shasta-Trinity National Recreation Area) to only highway legal vehicles and provide a maximum speed limit of 15 mph (refer to Table 3).

Table 3—Vehicle Class Additions/Prohibitions
Area | Acreage | Current permitted vehicle class | Proposed permitted vehicle class
Below the high-water mark at Shasta Lake and Trinity Lake (within the Shasta-Trinity National Recreation Area) | Varies based on water level | All | Highway legal vehicles. Speed limit not to exceed 15 mph.

Maps and tables describing in detail both the Forest transportation system and the proposed action can be found at http://www.fs.fed.us/r5/shastatrinity/news/ohv/index.shtml.

In addition, maps will be available for viewing at: Supervisor's Office Shasta-Trinity National Forest, 3644 Avtech Parkway, Redding, CA, Shasta Lake Ranger Station, 14225 Holiday Road, Redding, CA 96003, Weaverville Ranger Station, P.O. Box 1190, 360 Main Street, Weaverville, CA 96093, Hayfork Ranger Station, P.O. Box 159, (111 Trinity Street), Hayfork, CA 96041, Mount Shasta Ranger Station, 204 West Alma, Mt. Shasta, CA 96067

Responsible Official

J. Sharon Heywood, Forest Supervisor, Shasta-Trinity National Forest, 3644 Avtech Parkway, Redding, CA 96002.

Nature of Decision To Be Made

The responsible official will decide whether to adopt and implement the proposed action, an alternative to the proposed action, or take no action to make changes to existing prohibitions and allowances for public wheeled motorized vehicle travel within the existing NFTS and prohibit cross country wheeled motorized vehicle travel by the public off the designated system. Once the decision is made, the Forest will publish a MVUM identifying the roads, trails and areas that are designated for motor vehicle use. The MVUM shall specify the classes of vehicles and, if appropriate, the times of year for which use is designated. Future decisions associated with changes to the MVUM may trigger the need for documentation of environmental analysis.

Scoping Process

Public participation will be especially important at several points during the analysis. The Forest Service will be seeking information, comments, and assistance from the federal, state, and local agencies and other individuals or organizations who may be interested in or affected by the proposed action.

The Notice of Intent is expected to be published in the Federal Register on August 7, 2008.

The comment period on the proposed action will extend 30 days from the date the Notice of Intent is published in the Federal Register.

The draft EIS is expected to be filed with the Environmental Protection Agency (EPA) and to be available for public review by January 2009. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Shasta-Trinity National Forest participate at that time.

The final EIS is scheduled to be completed in July 2009. In the final EIS, the Forest Service will respond to comments received during the comment period that are: within the scope of the proposed action; specific to the proposed action; have a direct relationship to the proposed action; and include supporting reasons for the responsible official to consider. Submission of comments in response to the draft EIS is a prerequisite for eligibility to appeal under the 36 CFR part 215 regulations.

Comment Requested

This notice of intent initiates the scoping process which guides the development of the EIS.

Early Notice of Importance of Public Participation in Subsequent Environmental Review: A draft EIS will be prepared for comment. The comment period on the draft environmental impact statement will be 45-days from the date the EPA publishes the notice of availability in the Federal Register.

At this early stage, it is important to give reviewers notice of several court rulings related to public participation in the environmental review process.

First, reviewers of draft Environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: July 28, 2008.
J. Sharon Heywood,
Forest Supervisor.

[FR Doc. E8-17995 Filed 8-7-08; 8:45 am]

BILLING CODE 3410-11-M